DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of February, 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-41, 777; Patterson UTI Drilling, Snyder, TX.

In the following case, the investigation revealed that the criteria for eligibility have not been met for the reasons specified.

The investigation revealed that criterion (a)(2)(A) (I.C.) (Increased imports) and (a)(2)(B) (II.B) (No shift in production from a foreign country) have not been met.

TA-W-50,253; Johns-Manville, Natchez, MS.

TA-W-50,414; Pacon Corp., Bemiss-Jason Div., Neenah, WI.

TA-W-50,363; Microsemi Corp., Scottsdale, AZ.

TA-W-50,348; Egger Steel Co., Sioux Falls, SD.

TA-W-50,304; Defiance Metal Products, Bedford, PA.

TA-W-50,180A; Dallco Industries, Inc., York Springs, PA.

TA-W-50,330; Bardon Rubber Co., Inc., Union Grove, WI.

TA-W-50,035; Strong Wood Products, Inc., Strong, ME.

TA-W-50,076; Altadis USA, Inc., McAdoo, PA.

TA-W-50,082; Sara Lee Intimate Apparel, Playtex Apparel, Inc., Dover, DE.

TA-W-50,287; Corning Cable Systems, Telecommunications Cable Plant, Hickory, NY.

The workers firm does not produce an article as required for certification under section 222 of the Trade Act of 1974.

TA-W-50,271; Partminer Information Services, Div. of Partminer, Inc., Englewood, CO.

TA-W-50,469; Supra Telecom, Quincy, IL.

TA-W-50,492; Adventure Travel, Iron Mountain, MI.

TA-W-50,507; Nortel Networks, Research Triangle Park, NC.

TA-W-50,628; Xerox Corp., Telweb Equipment Center, Irving, TX.

TA-W-50,660; Abitibi Consolidated Sales Corp., West Tacoma Div., Stellacoom, WA.

TA-W-50,643; Aran Mold & Die Co., Inc., Elmwood Park, NJ.

TA-W-50,633; Barry of Goldsboro, Goldsboro, NC.

TA-W-50,308; Helicopter Aviation Services Corp., Mount Pleasant, PA.

Affirmative Determinations for Worker Adjustment Assistance

The following certifications have been issued; the date following the company name and location of each determination references the impact date for all workers of such determination.

TA-W-42,289; Interlake Material Handling, Inc., Pontiac Manufacturing Plant, Pontiac, IL: February 10, 2001.

TA-W-41,912; ADC Telecommunications, 5655 Eleventh Avenue East, Shakopee, MN: August 5, 2001.

TA-W-42,284; Custom Forest Products, Inc., Grayling, MI: October 8, 2001.

TA-W-42,265; Charles Navasky and Co., Philipsburg, PA: October 2, 2001.

TA-W-42,265A, B; Streamline Fashions, Philipsburg, PA and Northside Manufacturing, Philipsburg, PA: November 3, 2002.

The following certifications have been issued. The requirements of (a)(2)(A) (increased imports) of section 222 have been met.

TA-W-50,180; Dallco Industries, Inc., York, PA: November 22, 2001.

TA-W-50,128; GE Greenville Gas Turbines, LLC, Greenville, SC: November 15, 2001.

TA-W-50,051; Blue Ridge Sportswear, Palmerton, PA: November 8, 2001.

TA-W-50,499; Marion County Shirt Co., Marshall, AR: January 6, 2002.

TA-W-50,608; A.O. Smith, Electrical Products Co., McMinnville, TN: January 9, 2002.

TA-W-50,261; Advanced Power Technology, Inc., Bend, OR: December 5, 2001.

TA-W-50,707; NWB USA, Inc., Petersburg, VA: January 28, 2002.

TA-W-50,003; Weyerhaeuser Co., Western Lumber Div., Green Mountain/Longview Lumber Operations, Longview, WA: November 4, 2001.

The following certifications have been issued. The requirements of (a)(2)(B) (Shift in production) of Section 222 have been met.

TA-W-50,581; Chapin Manufacturing, Inc., Batavia, NY: January 2, 2002.

TA-W-50,103; K&C Knitting, Inc., Passaic, NJ: November 7, 2001.

TA-W-50,557; Crane Valves North America, Div. of the Crane Corp., Signal Hill, CA: December 14, 2001.

TA-W-50,561; Douglas Furniture of California, LLC, Redondo Beach, CA: January 9, 2002.

TA-W-50,698; Motor Coach Industries, Inc., Div. of Motor Coach Industries International, Inc., Pembina, ND: January 24, 2002.

TA-W-50,156; ITT-Jabsco, Div. of ITT Industries, Costa Mesa, MA: November 19, 2001.

TA-W-50,407; Eaton Corp., Cutler-Hammer Group, Sensors Div., Everett, WA: December 23, 2001.

TA-W-50,413; American Tack and Hardware, Monsey, NY: December 5, 2001.

The following certification has been issued. The requirement of upstream supplier to trade certified primary firm has been met.

TA-W-50,592; Specialty Minerals, Inc., Cloquet, MN: January 15, 2002.

Also, pursuant to title V of the North American Free Trade Agreement Implementation Act (Pub. L. 103-182) concerning transitional adjustment assistance hereinafter called (NAFTA-TAA) and in accordance with section 250(a), subchaper D, chapter 2, title II, of the Trade Act as amended, the Department of Labor presents summaries of determinations regarding eligibility to apply for NAFTA-TAA issued during the month of February 2003.

In order for an affirmative determination to be made and a certifiation of eligibility to apply for N AFTA-TAA the following group eligibility requirements of Section 250 of the Trade Act must be met:

(1) That a significant number or proportion of the workers in the workers' firm, or an appropriate subdivision thereof, (including workers in any agricultural firm or appropriate subdivision thereof) have become totally or partially separated from employment and either——

(2) That sales or production, or both, of such firm or subdivision have decreased absolutely.

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06491; Hoffco\Comet Industries, Inc., Rushville, IN.

NAFTA-TAA-07637; Xerox Corp., (Soho) Small office/Home Office Div., Canadaigue, NY.

Affirmative Determinations NAFTA-TAA

NAFTA-TAA-06399; United Plastics Group, Inc., Brooksville Plant, Brooksville, FL: June 26, 2001.

I hereby certify that the aforementioned determinations were issued during the months of February 2003. Copies of these determinations are available for inspection in Room C-5311, U.S. Department of Labor, 200 Constitution Avenue, NW., Washington, DC 20210 during normal business hours or will be mailed to persons who write to the above address.

Dated: February 18, 2003.
Edward A. Tomchick,
Director, Division of Trade Adjustment Assistance.

[FR Doc. 03-7197 Filed 3-25-03; 8:45 am]

BILLING CODE 4510-30-M